DEPARTMENT OF THE INTERIOR

National Park Service

[NPS-WASO-D-COS-POL-22111; PPWODIREP0] [PPMPSPD1Y.YM0000]

Notice of Availability and Request for Comments on Draft Director's Order #100 Resource Stewardship for the 21st Century

AGENCY: National Park Service, Interior.

ACTION: Notice of availability and request for comments.

SUMMARY: The National Park Service (NPS), under its authority at 54 U.S.C. 100101(a) et seq., has prepared a new Director's Order setting forth the policies and procedures that will guide resource stewardship in the 21st century. This guidance will form a new framework for stewardship decision making within the NPS based upon an overarching resource stewardship goal described in the Order.

DATES: Written comments will be accepted until November 18, 2016.

ADDRESSES: Draft Director's Order #100 is available online at: http://parkplanning.nps.gov/DO100 where readers may submit comments electronically.

FOR FURTHER INFORMATION CONTACT: Megan McKenna, Director's Order #100 Implementation Coordinator, National Park Service, at megan_f_mckenna@nps.gov, or by telephone at (970) 267-2123.

SUPPLEMENTARY INFORMATION: The NPS is updating its current system of internal written instructions. When these documents contain new policy or procedural requirements that may affect parties outside the NPS, they are first made available for public review and comment before being adopted. Director's Order #100 and a reference manual (subsequent to the Director's Order) will be issued. The draft Director's Order covers topics such as resource stewardship, Service-wide training, and decision making.

Before including your address, telephone number, email address, or other personal identifying information in your comment, you should be aware that your entire comment—including your personal identifying information—may be made publicly available at any time. While you may ask us in your comment to withhold your personal identifying information from public review, we cannot guarantee that we will be able to do so.

Alma Ripps,
Chief, Office of Policy.

[FR Doc. 2016-25283 Filed 10-18-16; 8:45 am]

BILLING CODE 4312-52-P